NATIONAL CREDIT UNION ADMINISTRATION

Sunshine Act; Notice of Agency Meeting

STATUS: Open.

TIME AND DATE: 10:00 a.m., Thursday, November 21, 2013.

PLACE: Board Room, 7th Floor, Room 7047, 1775 Duke Street (All visitors must use Diagonal Road Entrance), Alexandria, VA 22314-3428.

MATTERS TO BE CONSIDERED: 1. Quarterly Report on Corporate Stabilization Fund.

2. Board Briefing, Estimated Range of Premiums for the NCUSIF and Assessment for the Corporate Stabilization Fund.

3. NCUA's Rules and Regulations, Credit Union Service Organizations.

4. 2014 Operating Budget.

5. 2014 Overhead Transfer Rate.

6. 2014 Operating Fee Scale.

FOR FURTHER INFORMATION CONTACT: Gerard Poliquin, Secretary of the Board, Telephone: 703-518-6304.

Gerard Poliquin,
Secretary of the Board.

[FR Doc. 2013-27659 Filed 11-14-13; 4:15 pm]

BILLING CODE 7535-01-P